DEPARTMENT OF COMMERCE

National Institute of Standards and Technology

Visiting Committee on Advanced Technology

AGENCY: National Institute of Standards and Technology, Department of Commerce.

ACTION: Notice of Public Meeting.

SUMMARY: Pursuant to the Federal Advisory Committee Act, 5 U.S.C. app. 2, notice is hereby given that the Visiting Committee on Advanced Technology (VCAT), National Institute of Standards and Technology (NIST), will meet Tuesday, June 10, from 8 a.m. to 5 p.m. and Wednesday, June 11, from 9 a.m. to 11:45 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The theme for the meeting is “NIST's Roles in the Innovation Ecosystem.” The agenda will include discussions on guiding principles for the VCAT and the NIST leadership as well as NIST's 2008 priorities for the VCAT; an update on NIST including its response to the recommendations and findings in the 2007 VCAT Annual Report; and an overview of the innovation ecosystem with a focus on the drivers and the NIST role, as highlighted in presentations and discussions under three thematic sessions. Session I will cover NIST's role in enhancing use inspired basic research by working with academia, industry, and other agencies via joint research institutes, the Rapid Innovation and Competitiveness Initiative, and the Technology Innovation Program. Session II will focus on NIST's role in deploying technology and operational excellence by transforming manufacturing advances more quickly and measuring performance excellence. Session III will address NIST's role in responding to fast-paced standards issues. Other agenda items include two laboratory tours, feedback from the VCAT on NIST's role in the innovation ecosystem; a discussion of the VCAT's future structure; and presentations on NIST strategic planning topics, including biosciences, for the October 2008 VCAT meeting. The agenda may change to accommodate Committee business. The final agenda will be posted on the NIST Web site at http://www.nist.gov/director/vcat/agenda.htm.

DATES: The meeting will convene on June 10, 2008, at 8 a.m. and will adjourn on June 11, 2008, at 11:45 a.m.

ADDRESSES: The meeting will be held at the National Institute of Standards and Technology, Administration Building, Employees Lounge, Gaithersburg, Maryland 20899.

Anyone wishing to attend this meeting should submit name, e-mail address and phone number to Denise Herbert (denise.herbert@nist.gov or 301-975-5607) no later than June 6, 2008.

FOR FURTHER INFORMATION CONTACT: Denise Herbert, Visiting Committee on Advanced Technology, National Institute of Standards and Technology, Gaithersburg, Maryland 20899-1000, telephone number (301) 975-2300.

Dated: April 28, 2008.
James M. Turner,
Deputy Director.

[FR Doc. E8-9957 Filed 5-5-08; 8:45 am]

BILLING CODE 3510-13-P